NUCLEAR REGULATORY COMMISSION

[Docket No. 50-57; NRC-2012-0103]

Notice of Issuance of Amendment to Facility License R-77 Incorporating a Decommissioning Plan for the Buffalo Materials Research Center Reactor at the State University of New York at Buffalo

AGENCY: Nuclear Regulatory Commission.

ACTION: Notice of issuance.

SUMMARY: The U.S. Nuclear Regulatory Commission (NRC) has approved the State University of New York at Buffalo (UB) decommissioning plan (DP) by amendment to the Facility License R-77 for the Buffalo Materials Research Center (BMRC) reactor.

FOR FURTHER INFORMATION CONTACT: Theodore Smith, Project Manager, Office of Federal and State Materials and Environmental Management Programs, U.S. Nuclear Regulatory Commission, Washington, DC 20555-0001; telephone: 301-415-6721; email: Theodore.Smith@nrc.gov

ADDRESSES: Please refer to Docket ID NRC-2012-0103 when contacting the NRC about the availability of information regarding this document. You may access information related to this document, which the NRC possesses and are publicly-available, using any of the following methods:

• Federal Rulemaking Web site: Go to http://www.regulations.gov and search for Docket ID NRC-2012-0103. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email at PDR.Resource@nrc.gov. The ADAMS accession number for each document referenced in this notice (if that document is available in ADAMS) is provided the first time that the document is referenced.

• NRC's PDR: You may examine and purchase copies of public documents at the NRC's PDR, Room O1-F21, One White Flint North, 11555 Rockville Pike, Rockville, Maryland 20852.

I. Notice of Issuance

The BMRC reactor is located at the UB in Buffalo, NY. The reactor is a PULSTAR heterogeneous open-pool type water cooled reactor. The reactor operated from March 24, 1961 until June 23, 1994. During operation, the reactor used 6% enriched uranium dioxide fuel clad in zirconium-alloy. The UB submitted the DP for the reactor to the NRC in a letter dated February 17, 2012 (ADAMS accession no. ML120540187), as supplemented by letters dated June 20, 2012 (ADAMS accession no. ML121870132), September 21, 2012 (ADAMS accession no. ML122780454), and October 15, 2012 (ADAMS accession no. ML12297A237).

Pursuant to sections 20.1405 and 50.82(b)(5) of Title 10 of the Code of Federal Regulations (10 CFR), the NRC published a notice and solicitation of comments for this DP in the Federal Register entitled, “License Amendment Request From The State University of New York, University of Buffalo Reactor Facility,” on May 10, 2012 (77 FR 27487). No comments were received in response to this notice.

Subsequently, the NRC conducted a safety evaluation of the proposed DP (ADAMS accession no. ML12286A352). Based on this safety evaluation, the NRC concluded that, pursuant to 10 CFR 50.82(b)(5), the DP demonstrates that the proposed decommissioning will be performed in accordance with the Commission's regulations and will not be inimical to the common defense and security or to the health and safety of the public. Therefore, the Commission approved, by amendment to Facility License R-77, the DP subject to the safety evaluation.

The NRC is publishing this notice announcing the issuance of the amendment to Facility License R-77 pursuant to 10 CFR 2.106(a)(1), because a notice of proposed action regarding this amendment had been previously published.

Dated at Rockville, Maryland, this 11th day of February, 2013.
For the Nuclear Regulatory Commission.
Andrew Persinko,
Deputy Director Decommissioning and Uranium Recovery, Licensing Directorate, Division of Waste Management and Environmental Protection, Office of Federal and State Materials, and Environmental Management Programs.

[FR Doc. 2013-03762 Filed 2-15-13; 8:45 am]

BILLING CODE 7590-01-P